DEPARTMENT OF LABOR

Employment and Training Administration

[TA-W-61,524]

World Kitchen, LLC; Charleroi, PA; Notice of Termination of Investigation

Pursuant to section 221 of the Trade Act of 1974, as amended, an investigation was initiated on May 16, 2007 in response to a petition filed by a company official on behalf of workers at World Kitchen, LLC, Charleroi, Pennsylvania. The workers at the subject facility produce Pyrex glass prep-ware, bake-ware and storage containers.

The petitioner has requested that the petition be withdrawn. Consequently, the investigation has been terminated.

Signed in Washington, DC, this 29th day of June 2007.
Richard Church,
Certifying Officer, Division of Trade Adjustment Assistance.

[FR Doc. E7-13175 Filed 7-6-07; 8:45 am]

BILLING CODE 4510-FN-P